DEPARTMENT OF TRANSPORTATION

Federal Highway Administration

Environmental Impact Statement; Los Angeles and San Bernardino Counties, California; Notice of Intent

AGENCY: Federal Highway Administration (FHWA), DOT.

ACTION: Revised Notice of Intent (NOI).

SUMMARY: The FHWA, on behalf of the California Department of Transportation (Caltrans), is issuing this Revised Notice of Intent to inform the public of changes to the proposed High Desert Corridor project in Los Angeles and San Bernardino Counties, California. The Federal Railroad Administration has also been added as a Cooperating Agency.

DATES: Public scoping meetings were previously conducted as follows:

(1) Palmdale, CA on September 27, 2010, 6 p.m. to 8 p.m.

(2) Lancaster, CA on September 28, 2010, 6 p.m. to 8 p.m.

(3) Apple Valley, CA on September 29, 2010, 6 p.m. to 8 p.m.

(4) Victorville, CA on September 30, 2010, 6 p.m. to 8 p.m.

Meetings have also been held at various locations along the proposed corridor during April 2011 and January, February and December 2012 to keep the public, agencies, and elected officials appraised of the status of the project, including the modification of two project alternatives to include high speed rail. Additional meetings will be held in July of 2013.

FOR FURTHER INFORMATION CONTACT: Ronald Kosinski, Deputy District Director, California Department of Transportation District 7 Division of Environmental Planning, 100 South Main Street, Mail Stop 16A, Los Angeles, CA 90012.

SUPPLEMENTARY INFORMATION: Effective July 1, 2007, the FHWA assigned, and Caltrans assumed, environmental responsibilities for these projects pursuant to 23 U.S.C. 327. Caltrans, as the delegated National Environmental Policy Act (NEPA) lead agency, initiated studies on the High Desert Corridor project. The NOI was published in the Federal Register on October 12, 2007 (Vol. 72, No. 197) and a revised NOI was published on September 24, 2010 (Vol. 75, No. 185).

A draft Environmental Impact Statement will be prepared for a proposal to construct the High Desert Corridor, a new freeway/expressway, and possible toll way, extending approximately 63 miles between SR-14 in Los Angeles County and SR-18 in San Bernardino County. On March 22, 2012, the Los Angeles County Metropolitan Transportation Authority (Metro) Board of Directors took action to recognize this project as a Strategic Multipurpose Corridor, which provides mobility, as well as economic and environmental benefits. To satisfy this directive, the proposed corridor is being evaluated for potential inclusion of the highway (freeway/expressway), a toll way, a bike path, energy production and/or transmission facilities, and a high speed rail feeder service line. The proposed route would run primarily in an east-west direction and would roughly follow the alignment of the Avenue P-8 corridor near SR-14 in Los Angeles County and Air Expressway near I-15 in San Bernardino County. East of I-15, the proposed route would curve south until it terminates at SR-18.

The development of this corridor is considered necessary to provide for the existing and projected traffic demand attributed to large-scale growth and increasing population in the Antelope, Victor and Apple Valley areas of Los Angeles and San Bernardino Counties. This growth has resulted in inadequate capacity and accessibility along the existing east-west trending roadways as well as an increase in demand for goods movement corridors and access to regional airports. Alternatives under consideration are: (1)—No-Build; (2)—Transportation System Management/Transportation Demand Management (TSM/TDM). This includes several key elements under consideration: An eight-lane grade-separated freeway from SR-14 to 30th Street East; a transition to a four-lane at-grade expressway from 30th Street East to Longview Road; a four-lane at-grade highway connecting to SR-138 and extending east to US-395 along SR-18; a six-lane arterial highway along SR-18 (Palmdale Road) from US-395 to I-15; and minor roadway and signal improvements along SR-18 from I-15 to Bear Valley Road. These TSM/TDM roadway improvements would maintain at-grade intersections with local roads and driveway access; (3)—Freeway/Expressway (Avenue P-8, I-15 and SR-18). This would consist of a route with a controlled-access freeway in some areas and an expressway in others, depending on what is warranted by traffic demand. Interchange locations will be determined based upon traffic projections. This alternative generally follows Avenue P-8 in Los Angeles County and runs just south of El Mirage Road in San Bernardino County and then extends to Air Expressway Road near I-15 and curves south terminating at Bear Valley Road. The incorporation of green energy technologies and a bike path along the alternative will also be considered. Four variations along the main alignment of this alternative will be considered. In Variation A, the freeway/expressway would run slightly south of the main alignment, approximately between 15th Street East and Little Rock Wash near Palmdale. In Variation B, the freeway/expressway would run slightly south of the main alignment between Oasis Road and Caughlin Road east of the county line. In Variation D, the freeway/expressway would swing south of the main alignment just south of Avenue R approximately between 180th Street East and 230th Street East near the community of Lake Los Angeles. In Variation E, the freeway/expressway would swing south of the federal prison near the cities of Adelanto and Victorville; (4)—Freeway/Toll Way (Avenue P-8, I-15 and SR-18). This would consist of engineering geometrics similar to Alternative 3 with alterations made in coordination with a Public Private Partnership (P3) analysis. Variations A, B, D and E would also be considered; (5)—Freeway/Expressway with High Speed Rail Feeder Service. This Alternative is the same as the Alternative 3 (including Variations A, D, B and E) and includes a High Speed Rail (HSR) Feeder Service between Palmdale and Victorville. The HSR Feeder Service would utilize proven steel wheel on steel track technology and have a maximum operating speed of 180 miles per hour. Additional details of this operating feature, including the type of train technology (electric vs. diesel-electric), its location in relation to the HDC and its connections to existing and proposed rail stations are being evaluated as part of the ongoing Public-Private Partnership analysis and Alternatives Analysis. The incorporation of green energy technologies and a bike path will also be considered; (6)—Freeway/Tollway with High Speed Rail Feeder Service. This would consist of engineering geometrics similar to Alternative 4 with the consideration of additional right-of-way for a High Speed Rail (HSR) facility. The HSR Feeder Service would utilize proven steel wheel on steel track technology and have a maximum operating speed of 180 miles per hour. Additional details of this operating feature, including the type of train technology (electric vs. diesel-electric), its location in relation to the HDC and its connections to existing and proposed rail stations are being evaluated as part of the ongoing P3 analysis and Alternatives Analysis. The incorporation of green energy technologies and a bike path will also be considered; and (7)—Hybrid Corridor. This would consist of a combination of the previously identified alternatives, whose elements (TSM/TDM, Freeway, Expressway, Tollway, HSR Feeder Service, Green Energy Technologies, bike path) would be pieced together to best fit the needs of each section of the corridor. The determination of which elements to use, and at which locations, would be based on the results of the traffic study, environmental studies and public input. It is anticipated that the proposed project may require the following federal approvals and permits: A Biological Opinion from the United States Fish and Wildlife Service; approval of a PM10 and PM2.5 Hot Spot Analysis determination by the Conformity Working Group for transportation conformity under the Clean Air Act; Section 401, 402 and 404 permits under the Clean Water Act; and a Farmland Conversion Impact Rating under the Farmland Protection Policy Act.

Letters describing the proposed action and soliciting comments will be sent to appropriate Federal, State and local agencies, Participating Agencies, Tribal governments, and to private organizations and citizens who have previously expressed or are known to have an interest in this proposal. To ensure that the full range of issues related to this proposed action are addressed and all significant issues identified, comments and suggestions are invited from all interested parties. Comments or questions concerning this proposed action and the draft EIS should be directed to Caltrans at the address provided above.

(Catalog of Federal Domestic Assistance Program Number 20.205, Highway Planning and Construction. The regulations implementing Executive Order 12372 regarding intergovernmental consultation on Federal programs and activities apply to this program.)

Issued on: July 22, 2013.
Matt Schmitz,
Director State Programs, Federal Highway Administration, Sacramento, California.

[FR Doc. 2013-18515 Filed 7-31-13; 8:45 am]

BILLING CODE 4910-22-P